INTERNATIONAL TRADE COMMISSION

[Investigation No. 337-TA-1375]

Certain Mobile Phones, Components Thereof, and Products Containing the Same; Notice of a Commission Decision Not To Review an Initial Determination Terminating the Investigation in Its Entirety Based on Settlement; Termination of Investigation

AGENCY: U.S. International Trade Commission.

ACTION: Notice.

SUMMARY: Notice is hereby given that the U.S. International Trade Commission has determined not to review an initial determination (“ID”) issued by the presiding administrative law judge (“ALJ”) granting a joint motion to terminate the investigation in its entirety based on settlement due to a patent license agreement and arbitration agreement.

FOR FURTHER INFORMATION CONTACT: Sidney A. Rosenzweig, Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On November 17, 2023, the Commission instituted this investigation based on a complaint filed by Telefonaktiebolaget LM Ericsson of Stockholm, Sweden (“Ericsson”). 88 FR 80336 (Nov. 17, 2023). The complaint alleged violations of section 337 of the Tariff Act of 1930, as amended, 19 U.S.C. 1337, based upon the importation into the United States, the sale for importation, and the sale within the United States after importation of certain mobile phones, components thereof, and products containing same by reason of the infringement of certain claims of U.S. Patent No. 10,425,817 (“the '817 patent”); U.S. Patent No. 10,306,669 (“the '669 patent”); U.S. Patent No. 11,317,342 (“the '342 patent”); and U.S. Patent No. 11,515,893 (“the '893 patent”). Id. The Commission's notice of investigation named the following respondents: Motorola Mobility LLC of Chicago, Illinois; Lenovo (United States) Inc. of Morrisville, North Carolina; Lenovo Group Limited (“LGL”) of Hong Kong SAR; and Motorola (Wuhan) Mobility Technologies of Wuhan, China. The Office of Unfair Import Investigations was also named as a party in this investigation. Id.

On July 1, 2024, the Commission terminated the investigation as to LGL. Order No. 30 (June 3, 2024), unreviewed by Notice (July 1, 2024). In addition, the Commission terminated a number of asserted patent claims from the investigation. Order No. 10 (Jan. 3, 2024), unreviewed by Notice (Feb. 1, 2024); Order No. 15 (Feb. 7, 2024), unreviewed by Notice (Mar. 7, 2024); Order No. 31 (June 3, 2024), unreviewed by Notice (July 1, 2024); Order No. 41 (July 9, 2024), unreviewed by Notice (July 30, 2024). The patent claims that remain asserted are claims 10 and 13-15 of the '817 patent; claims 8, 9, 15, and 17 of the '669 patent; claims 34 and 39 of the '342 patent; and claim 4 of the '893 patent.

On December 17, 2024, the ALJ issued a final ID finding a violation of section 337 as to all the remaining asserted patent claims. The final ID did not include an recommended determination (“RD”) on remedy, the public interest, and bonding.

On April 17, 2025, the private parties filed a joint motion to terminate the investigation in its entirety based on settlement due to a patent license agreement and arbitration agreement. On April 28, 2025, the Commission investigative attorney filed a response in support of the motion.

On May 8, 2025, the ALJ issued the subject ID (Order No. 66), which grants the joint motion. The ID finds that the motion complies with Commission Rule 210.21(b) (19 CFR 210.21(b)). ID at 2-3.

No petitions for Commission review of the subject ID were filed.

The Commission has determined not to review the subject ID. The Commission notes that the motion also complies with Commission Rule 210.21(d) (19 CFR 210.21(d)) concerning arbitration agreements. The investigation is terminated.

The Commission vote for this determination took place on May 28, 2025.

The authority for the Commission's determination is contained in section 337 of the Tariff Act of 1930, as amended (19 U.S.C. 1337), and in Part 210 of the Commission's Rules of Practice and Procedure (19 CFR part 210).

By order of the Commission.
Issued: May 29, 2025.
Lisa Barton,
Secretary to the Commission.

[FR Doc. 2025-10048 Filed 6-2-25; 8:45 am]

BILLING CODE 7020-02-P